DEPARTMENT OF COMMERCE

National Oceanic and Atmospheric Administration

50 CFR Part 622

[Docket No. 151217999-6045-01]

RIN 0648-BF66

Fisheries of the Caribbean, Gulf of Mexico, and South Atlantic; Dolphin and Wahoo Resources of the Atlantic; Commercial Dolphin Fishery of the Atlantic; Control Date

AGENCY: National Marine Fisheries Service (NMFS), National Oceanic and Atmospheric Administration (NOAA), Commerce.

ACTION: Advanced notice of proposed rulemaking; consideration of a control date.

SUMMARY: This notice announces the establishment of a control date of June 30, 2015, that the South Atlantic Fishery Management Council (Council) may use if it decides to create restrictions limiting participation in the dolphin commercial sector of the dolphin and wahoo fishery in the Atlantic exclusive economic zone. Anyone entering the sector after the control date will not be assured of future access should a management regime that limits participation in the sector be prepared and implemented. This announcement is intended, in part, to promote awareness of the potential eligibility criteria for future access so as to discourage speculative entry into the Atlantic dolphin commercial sector while the Council and NMFS consider whether and how access to the sector should be controlled. NMFS invites comments on the establishment of this control date.

DATES: Written comments must be received by March 7, 2016.

ADDRESSES: You may submit comments identified by “NOAA-NMFS-2016-0001” by either of the following methods:

• Electronic Submission: Submit all electronic public comments via the Federal e-Rulemaking Portal. Go to www.regulations.gov/#!docketDetail;D=NOAA-NMFS-2016-0001, click the “Comment Now!” icon, complete the required fields, and enter or attach your comments.

• Mail: Submit written comments to Mary Janine Vara, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Mary Janine Vara, NMFS Southeast Regional Office, telephone: 727-824-5305, or email: mary.vara@noaa.gov.

SUPPLEMENTARY INFORMATION: The dolphin and wahoo fishery in the Atlantic is managed under the fishery management plan (FMP) for the Dolphin and Wahoo Fishery off the Atlantic States. The FMP was prepared by the Council and is implemented by NMFS under the authority of the Magnuson-Stevens Fishery Conservation and Management Act (Magnuson-Stevens Act) through regulations at 50 CFR part 622.

The Council voted at the September 2015 meeting to establish a control date of June 30, 2015, for the Atlantic dolphin commercial sector of the dolphin and wahoo fishery. The control date enables the Council to inform current and potential participants that it is considering creating restrictions limiting participation in the Atlantic dolphin commercial sector.

This notice informs current and potential participants in the Atlantic dolphin commercial sector within the dolphin and wahoo fishery that after June 30, 2015, they may not be ensured participation under future management of the fishery. If the Council decides to prepare an amendment to the FMP to restrict participation in the Atlantic dolphin commercial sector in relation to this control date, an analysis of specific biological, economic, and social effects will be prepared at that time.

Publication of the control date in the Federal Register informs participants of the Council's considerations, and gives notice to anyone entering the Atlantic dolphin commercial sector after the control date that they would not be assured of future access to the sector should management changes be implemented that would restrict participation. Implementation of any such changes would require preparation of an amendment to the FMP and publication of a notice of availability and proposed rule in the Federal Register with public comment periods, and, if approved by the Secretary of Commerce, issuance of a final rule.

Fishermen are not guaranteed future participation in a fishery or sector regardless of their entry date or intensity of participation in the fishery or sector before or after the control date under consideration. The Council subsequently may choose a different control date or they may choose a management regime without using a control date. The Council also may choose to take no further action to control entry or access to the Atlantic dolphin commercial sector, in which case the control date may be rescinded.

This notification also gives the public notice that interested participants should locate and preserve records that substantiate and verify their participation in the Atlantic dolphin commercial sector of the dolphin and wahoo fishery.

Authority: 16 U.S.C. 1801 et seq.

Dated: January 29, 2016.
Samuel D. Rauch III,
Deputy Assistant for Regulatory Programs, National Marine Fisheries Service.

[FR Doc. 2016-02093 Filed 2-3-16; 8:45 am]

BILLING CODE 3510-22-P